POSTAL REGULATORY COMMISSION

[Docket No. MT2016-1; Order No. 4062]

Market Test of Experimental Product-Customized Delivery

AGENCY: Postal Regulatory Commission.

ACTION: Notice.

SUMMARY: The Commission is noticing a recently-filed Postal Service Motion for Clarification of Order No. 3319, or, in the Alternative, for Extension of Market Test Time Period. This notice informs the public of the filing, invites public comment, and takes other administrative steps.

DATES: Comments are due: September 25, 2017.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Clarification

IV. Notice of Filing

V. Ordering Paragraphs

I. Introduction

On August 22, 2017, the Postal Service filed a Motion for Clarification of Order No. 3319, or, in the Alternative, for Extension of Market Test Time Period.¹ As discussed below, the Commission provides the requested clarification and treats the Motion as a request for a limited extension under 39 U.S.C. 3641(d) to satisfy 1-year agreements executed in the second year of a 2-year market test.

¹ United States Postal Service Motion for Clarification of Order No. 3319, or, in the Alternative, for Extension of Market Test Time Period, August 22, 2017 (Motion).

II. Background

On May 25, 2016, the Commission authorized the Postal Service to proceed with a 2-year market test of an experimental product identified as Global eCommerce Marketplace (GeM) Merchant.² GeM Merchant is an end-to-end international shipping service that allows participating domestic online merchants to offer their international customers the ability, at the time of purchase, to estimate and prepay duties and taxes that the foreign country's customs agency will assess when the item arrives in the foreign destination. Order No. 3319 at 2. The GeM Merchant market test began on June 27, 2016.³

² Order Authorizing Market Test of Global eCommerce Marketplace (GeM) Merchant, May 25, 2016 (Order No. 3319).

³ United States Postal Service Response to Order No. 3319 Concerning Effective Date of GeM Merchant Solution Market Test, June 8, 2016.

III. Clarification

The Postal Service seeks clarification that Order No. 3319 permits the Postal Service to execute GeM Merchant negotiated service agreements (NSAs) with 1-year terms during the second year of the test. Motion at 1. When authorizing the market test to proceed, the Commission found that “[t]he Postal Service's application for a limited extension to satisfy 1-year GeM Merchant NSAs executed during the second year of the market test is premature at this time.” Order No. 3319 at 21. The Commission stated that “[t]he Postal Service may apply for an extension . . . after the Postal Service files its third quarterly data collection report, due May 10, 2017.” Id. Therefore, the Commission treats the Motion as an application for a limited extension under 39 U.S.C. 3641(d) to satisfy 1-year GeM Merchant NSAs executed during the second year of the market test.

IV. Notice of Filing

The Commission reopens Docket No. MT2016-1 to consider matters raised by the Postal Service's Motion. The Commission invites comments on whether the Motion complies with applicable statutory and regulatory requirements, including 39 U.S.C. 3641, 39 CFR part 3035, and Order No. 3319. Comments are due September 25, 2017. The public portions of these filings can be accessed via the Commission's Web site (http://www.prc.gov).

39 U.S.C. 505 requires the Commission to designate an officer of the Commission to represent the interests of the general public in all public proceedings (Public Representative). The Commission previously appointed James Waclawski to serve as the Public Representative in this proceeding. He remains appointed to serve as the Public Representative.

V. Ordering Paragraphs

It is ordered:

1. The Commission reopens Docket No. MT2016-1 to consider matters raised by the Motion.

2. Pursuant to 39 U.S.C. 505, James Waclawski remains appointed to serve as the Public Representative in this proceeding.

3. Comments are due by September 25, 2017.

4. The Secretary shall arrange for publication of this order in the Federal Register.

By the Commission.
Stacy L. Ruble,
Secretary.

[FR Doc. 2017-18292 Filed 8-28-17; 8:45 am]

BILLING CODE 7710-FW-P